FEDERAL COMMUNICATIONS COMMISSION

47 CFR Part 73

[DA 07-2196; MB Docket No. 05-263; RM-11269]

Radio Broadcasting Services; Church Rock and Grants, NM

AGENCY: Federal Communications Commission.

ACTION: Final rule; dismissal.

SUMMARY: This Report and Order dismisses two Counterproposals as unacceptable for consideration. In addition, this Report and Order reallots Channel 279C0, Station KYVA-FM, from Grants, New Mexico, to Church Rock, New Mexico, and modifies the license of Station KYVA-FM accordingly. The foregoing change of community provides the first local aural transmission service to Church Rock. The Media Bureau's Consolidated Database System (CDBS) reflects these changes.

ADDRESSES: Federal Communications Commission, 445 Twelfth Street, SW., Washington, DC 20554.

FOR FURTHER INFORMATION CONTACT: R. Barthen Gorman, Media Bureau, (202) 418-2180.

SUPPLEMENTARY INFORMATION: This is a synopsis of the Commission's Report and Order in MB Docket No. 05-263, adopted May 23, 2007, and released May 25, 2007. The full text of this Commission decision is available for inspection and copying during normal business hours in the FCC's Reference Information Center at Portals II, 445 12th Street, SW., Room CY-A257, Washington, DC 20554. The document may also be purchased from the Commission's duplicating contractor, Best Copy and Printing, Inc., Portals II, 445 12th Street, SW., Room CY-B402, Washington, DC 20554, telephone 1-800-378-3160 or http://www.BCPIWEB.com. The Commission will not send a copy of this Report and Order in a report to be sent to Congress and the Government Accountability Office pursuant to the Congressional Review Act, see 5 U.S.C. 801(a)(1)(A), because Section 73.202(b) of the Commission's Rules has not been amended.

Federal Communications Commission.
John A. Karousos,
Assistant Chief, Audio Division, Media Bureau.

[FR Doc. E7-18495 Filed 9-19-07; 8:45 am]

BILLING CODE 6712-01-P